DEPARTMENT OF HEALTH AND HUMAN SERVICES

Centers for Disease Control and Prevention

[30Day-33-04]

Proposed Data Collections Submitted for Public Comment and Recommendations

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: Severe Acute Respiratory Syndrome (SARS) Investigation (OMB No. 0920-0596)—Revision—National Center for Infectious Diseases (NCID), Centers for Disease Control and Prevention (CDC). The purpose of this project is to prepare for a response to another possible outbreak of Severe Acute Respiratory Syndrome (SARS) in the United States and abroad. In late February 2003, CDC began supporting the World Health Organization (WHO) in the investigation of a multi-country outbreak of atypical pneumonia of unknown etiology. The illness was subsequently named SARS. By March 2003, cases of SARS were reported in the U.S. among travelers with a travel history to one or more of the three provinces in Asia where the SARS outbreak was first reported.

In order to prepare for another potential outbreak SARS in the U.S. in the upcoming respiratory season, CDC plans to collect data for the purpose of surveillance, case reporting, contact tracing and clinical and epidemiological investigations. Currently, CDC is collecting this information under an emergency clearance. To preserve continuity in the surveillance information collected by public health investigators, CDC is requesting a 3-year extension on the current surveillance forms. The information collected includes contact information from travelers on a flight with a person or persons suspected of having SARS, health care workers exposure, and case report forms. The estimated annualized burden is 2,213.

Form | Respondent | No. of respondents | No. of responses per respondent * | Avg. burden per response (in hours)
1. Transmission Protocol: Follow-up Questionnaire | SARS cases and contacts | 500 | 5 | 10/60
2. Transmission Protocol: Contact Baseline Questionnaire | Health Departments | 300 | 1 | 15/60
3. Transmission Protocol: Household Information Questionnaire | Health Departments | 300 | 1 | 10/60
4. Transmission Protocol: Household Contact Baseline Questionnaire | Health Departments Clinicians | 300 | 1 | 15/60
5. HCW Severe Pneumonia Surveillance Form | State/Local Health Departments | 300 | 1 | 40/60
6. Pregnancy Protocol Data Collections Forms | Health Departments Clinicians | 50 | 1 | 15/60
7. Transmission Protocol: Airline Contact Baseline Questionnaire | Quarantine Officers, Health Department | 1,000 | 1 | 30/60
8. Transmission Protocol: HCW Baseline Questionnaire | Health Departments Clinicians | 300 | 1 | 15/60
9. SARS Case Report Forms, Paper-based/Web-based Format | State/Local Health Departments | 300 | 1 | 40/60
10. Passenger Locator Card | Airline Passengers | 3,000 | 1 | 5/60
11. Clinical Baseline Questionnaire for SARS Cases | Health Department Clinicians | 100 | 1 | 1
12. International SARS Case Reports Form | Caseworker | 100 | 1 | 20/60
13. HCW Facility Encounter Forms | Healthcare Facility, State or Local Health Departments | 300 | 1 | 30/60
14. SARS Screening Form | Healthcare Facility, State or Local Health Departments | 300 | 1 | 15/60
* The number of responses will be determined by the extent of a SARS outbreak.

Dated: March 15, 2004.
Alvin Hall,
Director, Management Analysis and Services Office, Centers for Disease Control and Prevention.

[FR Doc. 04-6329 Filed 3-19-04; 8:45 am]

BILLING CODE 4163-18-P